INTERNATIONAL TRADE COMMISSION

[Investigation No. 337-TA-1423]

Certain Electronic Eyewear Products, Components Thereof, and Related Charging Apparatuses; Institution of Investigation

AGENCY: U.S. International Trade Commission.

ACTION: Notice.

SUMMARY: Notice is hereby given that a complaint was filed with the U.S. International Trade Commission on October 10, 2024, under section 337 of the Tariff Act of 1930, as amended, on behalf of Igeniospec, LLC of San Jose, California. The complaint alleges violations of section 337 based upon the importation into the United States, the sale for importation, and the sale within the United States after importation of certain electronic eyewear products, components thereof, and related charging apparatuses by reason of the infringement of certain claims of U.S. Patent No. 10,310,296 (“the '296 patent”); U.S. Patent No. 11,762,224 (“the '224 patent”); and U.S. Patent No. 12,078,870 (“the '870 patent”). The complaint further alleges that an industry in the United States exists or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on November 12, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-15, 17, 18, 20, 21, 23-25, 28-35, and 37 of the '296 patent; claims 27-48 of the '224 patent; and claims 36, 43-53, 55-67, and 69-72 of the '870 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “eyewear products containing electronic components in the frames and/or lenses, associated components, and related charging apparatuses”;

(3) For the purpose of the investigation so instituted, the following are hereby named as parties upon which this notice of investigation shall be served:

(a) The complainant is:

INGENIOSPEC, LLC, 4010 Moorpark Avenue, Suite 211, San Jose, CA 95129

(b) The respondents are the following entities alleged to be in violation of section 337, and are the parties upon which the complaint is to be served:

ByteDance, Ltd., Xueyan S Rd., Shuangyushu, Haidian District, Beijing China 100080

ByteDance Inc., 251 Little Falls Drive, Wilmington, Delaware 19808

Qingdao Chuangjian Weilai Technology Co., Ltd., Room 401, 4th Floor, Building 3, Qingdao Research Institute, 393 Songling Road, Laoshan District, Qingdao City, Shangdong Province, P.R. China

Funnico Inc., 1199 Coleman Avenue, San Jose, California 95110

PICO Immersive Pte. Ltd., 1 Raffles Quay, #26-10, Singapore 048583

HTC Corporation, No. 23, Xinghua Rd., Taoyuan Dist., Taoyuan City 330, Taiwan

HTC Europe Co Ltd., Wellington St., Slough, Berkshire, SL1 1YP, UK

HTC Poland SP Z O.O., Aleje Jerozolimskie 146A, 00-001, Warszawa, Poland

Meta Platforms, Inc., 1 Meta Way, Menlo Park, CA 94025

Meta Platforms Technologies, LLC, 1 Hacker Way, Menlo Park, CA 94025

Meta Platforms Technologies Ireland Ltd., Merrion Road, Dublin 4, D04 X2K5, Ireland

Meta Platforms Technologies UK Ltd., 10 Brock Street, Regent's Place, London NQ1, 33FG, United Kingdom

Valve Corporation, 10400 NE 4th Street Suite 1400, Bellevue, WA 98004

Valve GmbH Corporation, Rodingsmarkt 9 D-20459, Hamburg Germany

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 13, 2024.
Lisa Barton,
Secretary to the Commission.

[FR Doc. 2024-26806 Filed 11-15-24; 8:45 am]

BILLING CODE 7020-02-P